DEPARTMENT OF LABOR

Employment and Training Administration

[TA-W-71,113; TA-W-71,113A]

Mitsubishi Heavy Industries Climate Control, Inc., Franklin, IN, and Greenwood, IN; Notice of Termination of Investigation

Pursuant to Section 221 of the Trade Act of 1974, as amended, an investigation was initiated on June 9, 2009, in response to a petition filed by a company official on behalf of workers at Mitsubishi Heavy Industries, Climate Control, Inc., Franklin, Indiana (TA-W-71,113), and Greenwood, Indiana (TA-W-71,113A).

The petitioner has requested that the petition be withdrawn. Consequently, the investigation has been terminated.

Signed at Washington, DC, this 29th day of June 2009.
Richard Church,
Certifying Officer, Division of Trade Adjustment Assistance.

[FR Doc. E9-18055 Filed 7-28-09; 8:45 am]

BILLING CODE 4510-FN-P